Proclamation 9017 of September 13, 2013

National Farm Safety and Health Week, 2013

By the President of the United States of America

A Proclamation

Farmers, ranchers, and farmworkers form the cornerstones of some of America's most essential economic sectors. Their products feed, clothe, and fuel our Nation. Their way of life—handed down from generation to generation—is central to the American story. During National Farm Safety and Health Week, we celebrate our agricultural producers' values, experiences, and contributions, and we recommit to secure work environments on all our country's farms.

For many agricultural workers, the risk of injury and illness is a daily reality. They face multiple challenges, including entering hazardous grain storage bins, handling livestock and chemicals, and transporting large machinery on our Nation's rural roadways. I encourage agricultural producers and their families and communities to participate in comprehensive farm safety and health programs, take precautions, and prepare themselves for emergencies. I urge all Americans to respect farming and ranching families by driving rural roadways with care, and I ask communities to remember agricultural workers' needs in setting up health facilities and emergency response programs.

As the fall harvest season begins, we pay tribute to the generations of Americans who have devoted themselves to supplying the basic materials that make our country work. This week, we resolve to make farms and ranches safer places to live, work, and raise families.

NOW, THEREFORE, I, BARACK OBAMA, President of the United States of America, by virtue of the authority vested in me by the Constitution and the laws of the United States, do hereby proclaim September 15 through September 21, 2013, as National Farm Safety and Health Week. I call upon the agencies, organizations, businesses, and extension services that serve America's agricultural workers to strengthen their commitment to promoting farm safety and health programs. I also urge Americans to honor our agricultural heritage and express appreciation to our farmers, ranchers, and farmworkers for their contributions to our Nation.

IN WITNESS WHEREOF, I have hereunto set my hand this thirteenth day of September, in the year of our Lord two thousand thirteen, and of the Independence of the United States of America the two hundred and thirty-eighth.

[FR Doc. 2013-22886

Filed 9-17-13; 11:15 am]

Billing code 3295-F3